FEDERAL RETIREMENT THRIFT INVESTMENT BOARD

Sunshine Act; Notice of Meeting

TIME AND DATE: 9:00 a.m. (Eastern Time), May 20, 2013.

PLACE: 10th Floor Board Meeting Room, 77 K Street NE., Washington, DC 20002.

STATUS: Parts will be open to the public and parts closed to the public.

MATTERS TO BE CONSIDERED:

Parts Open to the Public

1. Approval of the Minutes of the April 22, 2013 Joint Board/ETAC Meeting

2. Thrift Savings Plan Activity Reports by the Executive Director

a. Monthly Participant Activity Report

b. Monthly Investment Policy Report

c. Legislative Report

3. FY13 Strategic Plan Status

4. Budget Review

5. TSP Fund Participation in Settlements

6. Board Meeting Calendar

Parts Closed to the Public

1. Security

2. Personnel

Contact Person for More Information: Kimberly Weaver, Director, Office of External Affairs, (202) 942-1640.

Dated: May 10, 2013.
James B Petrick,
Secretary, Federal Retirement Thrift Investment Board.

[FR Doc. 2013-11555 Filed 5-10-13; 4:15 pm]

BILLING CODE 6760-01-P